DEPARTMENT OF LABOR

Employment and Training Administration

[TA-W-51,541]

Luzenac America, Inc., Windsor, VT; Notice of Negative Determination Regarding Application for Reconsideration

By application of July 7, 2003, a company official requested administrative reconsideration of the Department's negative determination regarding eligibility for workers and former workers of the subject firm to apply for Trade Adjustment Assistance (TAA). The denial notice was signed on May 23, 2003 and published in the Federal Register on June 19, 2003 (68 FR 36845).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a mis-interpretation of facts or of the law justified reconsideration of the decision.

The TAA petition, filed on behalf of workers at Luzenac America, Inc., Windsor, Vermont engaged in the production of talc products, was denied because criteria (a)(2)(A)(IB) and (IIB) were not met. Production of talc products at the subject plant increased from 2001 to 2002 and from January through March of 2002 to the corresponding period of 2003, and the company did not shift production to a foreign source in this period.

In the request for reconsideration, the company official states that sales and production declines will occur in the near future in conjunction with a scheduled shift in production to Canada and a subsequent production shut down at the subject firm.

Regardless of imminent and certain sales and production declines, criterion (a)(2)(A)(I.B) requires an “existing” sales and/or production decline at the subject firm. Alternatively, workers might be eligible for TAA if the company had begun shifting production of like or directly competitive talc products to Canada. However, that event has not yet occurred and thus no shift of production is indicated in the relevant period of this investigation. Thus criterion (II.B) has not been met.

Should conditions change in the future, the company is encouraged to file a new petition on behalf of the worker group which will encompass an investigative period that will include these changing conditions.

Conclusion

After review of the application and investigative findings, I conclude that there has been no error or misinterpretation of the law or of the facts which would justify reconsideration of the Department of Labor's prior decision. Accordingly, the application is denied.

Signed at Washington, DC, this 1st day of August, 2003.
Elliott S. Kushner,
Certifying Officer, Division of Trade Adjustment Assistance.

[FR Doc. 03-21022 Filed 8-15-03; 8:45 am]

BILLING CODE 4510-30-P